DEPARTMENT OF STATE

[Public Notice 11636]

U.S. Advisory Commission on Public Diplomacy Notice of Meeting

The U.S. Advisory Commission on Public Diplomacy (ACPD) will hold a virtual public meeting from 12:00 p.m. until 1:30 p.m., Thursday, February 24, 2022. In addition to previewing the 2021 Comprehensive Annual Report on Public Diplomacy and International Broadcasting, the meeting will feature a panel of Public Affairs Officers at U.S. Embassies in Africa, South Central Asia, and the Western Hemisphere. Building on the 2021 Comprehensive Annual Report findings, panelists will address current challenges to and opportunities for the practice of public diplomacy in the field.

This meeting is open to the public, including the media and members and staff of governmental and non-governmental organizations. To obtain the web conference link and password, please register here: https://www.eventbrite.com/e/field-perspectives-on-the-practice-of-public-diplomacy-tickets-247362085657. To request reasonable accommodation, please email ACPD Program Assistant Kristy Zamary at ZamaryKK@state.gov. Please send any request for reasonable accommodation no later than February 11, 2022. Requests received after that date will be considered but might not be possible to fulfill. Attendees should plan to enter the web conference waiting room by 11:50 a.m. to allow for a prompt start.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Deneyse Kirkpatrick at kirkpatrickda2@state.gov.

Vivian S. Walker,
Executive Director, U.S. Advisory Commission on Public Diplomacy, Department of State.

[FR Doc. 2022-01631 Filed 1-26-22; 8:45 am]

BILLING CODE 4710-45-P